DEPARTMENT OF THE INTERIOR

Bureau of Land Management

[MT-929-00-1910-HE-4677-UT940]

Montana: Filing of Amended Protraction Diagram Plats

AGENCY: Bureau of Land Management, Montana State Office, Interior.

ACTION: Notice.

SUMMARY: The plats of the amended protraction diagrams accepted September 15, 2000, of the following described lands are scheduled to be officially filed in the Montana State Office, Billings, Montana, thirty (30) days from the date of this publication.

Tps. 11, 12, 13, and 14 N., Rs. 24, 25, and 26 W.

The plat, representing the Amended Protraction Diagram 21 Index of unsurveyed Townships 11, 12, 13, and 14 North, Ranges 24, 25, and 26 West, Principal Meridian, Montana, was accepted September 15, 2000.

T. 11 N., R. 25 W.

The plat, representing Amended Protraction Diagram 21 of unsurveyed Township 11 North, Range 25 West, Principal Meridian, Montana, was accepted September 15, 2000.

T. 12 N., R. 25 W.

The plat, representing Amended Protraction Diagram 21 of unsurveyed Township 12 North, Range 25 West, Principal Meridian, Montana, was accepted September 15, 2000.

T. 12 N., R. 26 W.

The plat, representing Amended Protraction Diagram 21 of unsurveyed Township 12 North, Range 26 West, Principal Meridian, Montana, was accepted September 15, 2000.

T. 13 N., R. 24 W.

The plat, representing Amended Protraction Diagram 21 of unsurveyed Township 13 North, Range 24 West, Principal Meridian, Montana, was accepted September 15, 2000.

T. 13 N., R. 26 W.

The plat, representing Amended Protraction Diagram 21 of unsurveyed Township 13 North, Range 26 West, Principal Meridian, Montana, was accepted September 15, 2000.

T. 14 N., R. 24 W.

The plat, representing Amended Protraction Diagram 21 of unsurveyed Township 14 North, Range 24 West, Principal Meridian, Montana, was accepted September 15, 2000.

T. 14 N., R. 25 W.

The plat, representing Amended Protraction Diagram 21 of unsurveyed Township 14 North, Range 25 West, Principal Meridian, Montana, was accepted September 15, 2000.

T. 14 N., R. 26 W.

The plat, representing Amended Protraction Diagram 21 of unsurveyed Township 14 North, Range 26 West, Principal Meridian, Montana, was accepted September 15, 2000.

Tps. 17, 18, 19, and 20 N., Rs. 30, 31, 32, and 33 W.

The plat, representing the Amended Protraction Diagram 30 Index of unsurveyed Townships 17, 18, 19, and 20 North, Ranges 30, 31, 32, and 33 West, Principal Meridian, Montana, was accepted September 15, 2000.

T. 17 N., R. 30 W.

The plat, representing Amended Protraction Diagram 30 of unsurveyed Township 17 North, Range 30 West, Principal Meridian, Montana, was accepted September 15, 2000.

T. 18 N., R. 30 W.

The plat, representing Amended Protraction Diagram 30 of unsurveyed Township 18 North, Range 30 West, Principal Meridian, Montana, was accepted September 15, 2000.

T. 18 N., R. 31 W.

The plat, representing Amended Protraction Diagram 30 of unsurveyed Township 18 North, Range 31 West, Principal Meridian, Montana, was accepted September 15, 2000.

T. 19 N., R. 31 W.

The plat, representing Amended Protraction Diagram 30 of unsurveyed Township 19 North, Range 31 West, Principal Meridian, Montana, was accepted September 15, 2000.

T. 20 N., R. 30 W.

The plat, representing Amended Protraction Diagram 30 of unsurveyed Township 20 North, Range 30 West, Principal Meridian, Montana, was accepted September 15, 2000.

T. 20 N., R. 31 W.

The plat, representing Amended Protraction Diagram 30 of unsurveyed Township 20 North, Range 31 West, Principal Meridian, Montana, was accepted September 15, 2000.

T. 20 N., R. 32 W.

The plat, representing Amended Protraction Diagram 30 of unsurveyed Township 20 North, Range 32 West, Principal Meridian, Montana, was accepted September 15, 2000.

T. 20 N., R. 33 W.

The plat, representing Amended Protraction Diagram 30 of unsurveyed Township 20 North, Range 33 West, Principal Meridian, Montana, was accepted September 15, 2000.

The amended protraction diagrams were prepared at the request of the U.S. Forest Service to accommodate Revision of Primary Base Quadrangle Maps for the Geometronics Service Center.

A copy of the preceding described plats of the amended protraction diagrams accepted September 15, 2000, will be immediately placed in the open files and will be available to the public as a matter of information.

If a protest against these amended protraction diagrams, accepted September 15, 2000, as shown on these plats, is received prior to the date of the official filings, the filings will be stayed pending consideration of the protests.

These particular plats of the amended protraction diagrams will not be officially filed until the day after all protests have been accepted or dismissed and become final or appeals from the dismissal affirmed.

FOR FURTHER INFORMATION CONTACT: Bureau of Land Management, 5001 Southgate Drive, P.O. Box 36800, Billings, Montana 59107-6800.

Dated: September 19, 2000.
Steven G. Schey,
Chief Cadastral Surveyor, Division of Resources.

[FR Doc. 00-25362 Filed 10-02-00; 8:45 am]

BILLING CODE 4310-DN-P